DEPARTMENT OF STATE

22 CFR Part 121

[Public Notice: 12591]

International Traffic in Arms Regulations: Extension of an Existing Temporary Modification of Category VIII of the U.S. Munitions List

AGENCY: Department of State.

ACTION: Final rule; notification of extension of temporary modification.

SUMMARY: The Department of State (the Department), pursuant to its regulations and in the interest of the national security and foreign policy of the United States, extends a previous temporary modification of the United States Munitions List (USML) Category VIII.

DATES: As of November 26, 2024, the end of the effective period for the temporary modification published at 88 FR 84072 on December 4, 2023, is extended from December 1, 2024, to December 1, 2026, or when terminated by the Department, whichever occurs first.

FOR FURTHER INFORMATION CONTACT: Mr. Robert Rasmussen, Office of Defense Trade Controls Policy, Department of State, telephone (771) 204-4442; email DDTCCustomerService@state.gov, SUBJECT: Temporary Modification—Note to paragraph (h)(1) of USML Category VIII.

SUPPLEMENTARY INFORMATION: On December 4, 2023, the Department published a final rule in the Federal Register at 88 FR 84072 temporarily modifying the note to USML Category VIII(h)(1), such that parts, components, accessories, and attachments specially designed for aircraft identified in paragraph (h)(1) are not released from that paragraph due to their use in the KF-21 aircraft.

The Department previously determined it is in the national security and foreign policy interests of the United States to allow manufacturers to apply for export authorizations to participate in development of the KF-21 aircraft by using certain defense articles described in paragraph (h)(1) without removing those defense articles from the USML simply because they are used in the KF-21.

Now, the Department again determines it is in the security and foreign policy interests of the United States to extend the validity period of this temporary modification. Accordingly, pursuant to International Traffic in Arms Regulations (ITAR) § 126.2, the Acting Assistant Secretary of State for Political-Military Affairs hereby extends the previous temporary modification of the Note to paragraph (h)(1) of USML Category VIII.

Section 126.2 of the ITAR provides that the Deputy Assistant Secretary for Defense Trade Controls may order the temporary suspension or modification of any or all provisions of the ITAR when in the interest of the security and foreign policy of the United States. Section 120.1(b) of the ITAR authorizes the Assistant Secretary of State for Political-Military Affairs to exercise this authority for the Department.

This temporary modification, already effective and currently reflected in the USML at ITAR § 121.1, is hereby extended until December 1, 2026, or when terminated by the Department, whichever occurs first.

Regulatory Analysis and Notices

Administrative Procedure Act

This rulemaking is exempt from section 553 of the Administrative Procedure Act (APA) pursuant to section 553(a)(1) as a military or foreign affairs function of the United States.

Regulatory Flexibility Act

Since this rule is exempt from the notice-and-comment rulemaking provisions of 5 U.S.C. 553, it does not require analysis under the Regulatory Flexibility Act.

Unfunded Mandates Reform Act of 1995

This rulemaking does not involve a mandate that will result in the expenditure by State, local, and tribal governments, in the aggregate, or by the private sector of $100 million or more in any year and it will not significantly or uniquely affect small governments. Therefore, no actions were deemed necessary under the provisions of the Unfunded Mandates Reform Act of 1995.

Congressional Review Act

The Department assesses that this rule is not a major rule under the criteria of 5 U.S.C. 804.

Executive Orders 12372 and 13132

This rulemaking does not have sufficient federalism implications to require consultations or warrant the preparation of a federalism summary impact statement. The regulations implementing Executive Order 12372 regarding intergovernmental consultation on Federal programs and activities do not apply to this rulemaking.

Executive Orders 12866, 13563, and 14094

Executive Orders 12866 (as amended by Executive Order 14094) and 13563 direct agencies to assess all costs and benefits of available regulatory alternatives and, if regulation is necessary, to select regulatory approaches that maximize net benefits (including potential economic, environmental, public health and safety effects, distributed impacts, and equity). Executive Order 13563 emphasizes the importance of quantifying both costs and benefits, of reducing costs, of harmonizing rules, and of promoting flexibility. This rule has not been deemed a “significant regulatory action” under Executive Order 12866. Accordingly, the rule has not been reviewed by the Office of Management and Budget (OMB).

Executive Order 12988

The Department of State has reviewed this rulemaking in light of sections 3(a) and 3(b)(2) of Executive Order 12988 to eliminate ambiguity, minimize litigation, establish clear legal standards, and reduce burden.

Executive Order 13175

The Department of State has determined that this rulemaking will not have Tribal implications, will not impose substantial direct compliance costs on Indian Tribal governments, and will not preempt Tribal law. Accordingly, the requirements of Executive Order 13175 do not apply to this rulemaking.

Paperwork Reduction Act

This rulemaking does not impose or revise any information collections subject to 44 U.S.C. chapter 35.

Stanley L. Brown,
Acting Assistant Secretary, Bureau of Political-Military Affairs, U.S. Department of State.

[FR Doc. 2024-27592 Filed 11-25-24; 8:45 am]

BILLING CODE 4710-25-P